SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before June 9, 2008

ADDRESSES: Send all comments regarding whether these information collections are necessary for the proper performance of the function of the agency, whether the burden estimates are accurate, and if there are ways to minimize the estimated burden and enhance the quality of the collections, to Sandra Johnston, Program Analyst, Office of Financial Assistance, Small Business Administration, 409 3rd Street, SW., 8th floor, Wash., DC 20416

FOR FURTHER INFORMATION CONTACT: Sandra Johnston, Program Analyst, Office of Financial Assistance, 202-205-7528 sandra.johnston@sba.gov; Curtis B. Rich, Management Analyst, 202-205-7030 curtis.rich@sba.gov

SUPPLEMENTARY INFORMATION: SBA Form 159 is used by 7(a) lenders, Certified Development companies, and applicants for 7(a), 504 loans and SBA disaster loans. The information collected is used by SBA to establish that there is no appearance of unlawful or unethical activity by agents, loan packagers and others who receive compensation in exchange for representing the applicants for an SBA business or disaster loan. SBA uses the information collected on Form 160 and 160A to establish the applicant's legal authority to enter into the loan transaction.

Title: “Compensation Agreement; Resolution of Board of Directors, and Certificate as to Partners”.

Description of Respondents: 7(A) Participants.

Form Numbers: 159(7a), 159(504), 159D, 160, 160A.

Annual Responses: 27,753.

Annual Burden: 2,558.

SUPPLEMENTARY INFORMATION: This collection is used to obtain immediate repayment or arrive at a satisfactory arrangement for future repayment of debts to the Government.

Title: “Statement of Debtor”.

Description of Respondents: SBA Borrowers of guarantor's who request compromise.

Form Number: 770.

Annual Responses: 5,000.

Annual Burden: 2,500.

SUPPLEMENTARY INFORMATION: This collection is used to certify use of loan proceeds, appoint a servicing agent and acknowledge the imposition of various fees.

Title: “Servicing Agent Agreement”.

Description of Respondents: Certified Development Companies and SBA Borrowers.

Form Number: 1506.

Annual Responses: 15,516.

Annual Burden: 15,516.

SUPPLEMENTARY INFORMATION: Prime is a grant program utilizing not for profit Microenterprise Development Organizations (MDOs). Provides training and technical assistance to disadvantaged and very-low income entrepreneurs.

Title: “PRIME (Program for Investment in Microentrepreneurs)”.

Description of Respondents: Disadvantaged Microentrepreneurs.

Form Number: N/A.

Annual Responses: 156.

Annual Burden: 312.

Jacqueline White,
Chief, Administrative Information Branch.

[FR Doc. E8-7262 Filed 4-7-08; 8:45 am]

BILLING CODE 8025-01-P